DEPARTMENT OF THE INTERIOR

Fish and Wildlife Service

Information Collection Submitted to the Office of Management and Budget for Renewal Under the Paperwork Reduction Act

AGENCY: Fish and Wildlife Service, Interior.

ACTION: Notice.

SUMMARY: We have submitted the information collection requirements to renew approval of the collection of information for special use permit applications on national wildlife refuges in Alaska to OMB for approval under the provisions of the Paperwork Reduction Act of 1995.

DATES: Submit comments on or before July 31, 2000.

ADDRESSES: Send comments and suggestions on specific requirements directly to the Office of Management and Budget, Office of Information and Regulatory Affairs, Attention: Department of the Interior Desk Officer, 725 17th Street, NW, Washington, DC 20503; and a copy to our Information Collection Clearance Officer, U.S. Fish and Wildlife Service [MS 222 ARLSQ], 1849 C Street, NW, Washington, DC 20240.

FOR FURTHER INFORMATION CONTACT: Leslie Marler, Management Analyst, Branch of Policy and Planning, Division of Refuges, (703) 358-2397; or Tony Booth, Refuge Program Specialist, Division of Refuges, Anchorage, AK (907) 786-3384.

SUPPLEMENTARY INFORMATION: We submitted the following proposed information collection clearance requirement to OMB for review and approval under the Paperwork Reduction Act of 1995 (Pub. L. 104-13). OMB has up to 60 days to approve or disapprove information collection. To ensure maximum consideration, OMB should receive public comments by July 31, 2000. We may not conduct or sponsor a collection of information, and a person is not required to respond to a request for information unless it displays a currently valid OMB control number. We previously published a 60-day notice inviting public comment on this information collection in the Federal Register on February 9, 2000 (65 FR 6388). We received no comments.

We invite comments on: (1) Whether the collection of information is necessary for the proper performance of the functions of the agency, including whether the information will have practical utility; (2) the accuracy of the agency's estimate of burden, including the validity of the methodology and assumptions used; (3) ways to enhance the quality, utility, and clarity of the information to be collected; and (4) ways to minimize the burden of the collection of information on those who are to respond, including the use of appropriate automated, electronic, mechanical, or other technological collection techniques or other forms of information technology.

The National Wildlife Refuge System Improvement Act of 1997 (Pub. L. 105-57) that amends the National Wildlife Refuge Administration Act of 1966 (16 U.S.C. 668 dd-ee) requires that we authorize economic or other special privileges on any national wildlife refuge by permit only when we determine the activity will be compatible with the purposes for which the refuge was established and the mission of the National Wildlife Refuge System. The Alaska National Interest Lands Conservation Act (ANILCA) (16 U.S.C. 3101 et seq.) provides for the disposition and use of national wildlife refuges and other federally owned lands in Alaska. Title III of ANILCA identifies the purposes for each Alaska refuge and requires that all uses we authorize on them first be found to be compatible with the refuge purposes. Section 1307 of ANILCA contains two provisions concerning persons and entities who we are to give special rights and preferences with respect to providing “visitor services” on national wildlife refuges in Alaska and certain other Federal lands. Other sections of ANILCA allow us to permit uses on national wildlife refuges in Alaska under certain conditions.

We will provide the permit applications as requested by interested Alaska citizens. We will use information provided on the required written forms and/or verbal applications to determine if the proposed activity is compatible with refuge purposes and ensure that the applicant is eligible for a permit. In the case of competitively awarded permits, we will use the information to determine the most qualified applicant to receive benefits of a refuge permit. In the case of “1307” permits, we will use the information to determine whether the applicant is: A member of a Native Corporation; a local resident; engaged in adequately providing visitors services on or before January 1, 1979; or eligible to receive Cook Inlet Region rights.

We make provision in our general refuge regulations for public entry for specialized purposes, including economic activities such as the operation of guiding and other visitor services on refuges by concessionaires or cooperators under appropriate contracts or legal agreements (found in 50 CFR 25.61) or special use permits (found in 50 CFR 26.22(b), 26.25, 36.37, and 36.41). These rules provide the authorities and procedures for selecting permittees on Alaska refuges, the vast majority of which are providers of services and facilities to the public. We will issue permits for a specific period as determined by the type and location of the use or visitor service provided.

We are making several minor modifications to the Special Use Permit application form:

1. On page one, Part 1 of the form, we changed cc:mail address to e-mail address.

2. On page two, Part 2 of the form, we eliminated Aleutian Islands Unit/Alaska Maritime NWR from the list of National Wildlife Refuge Code Acronyms because there is no need for separate entry for the Aleutian Islands Unit of the refuge.

3. On page two, Part 2 of the form, we also revised the list of Activity Codes to provide more effective and clearer identification of the types of commercial visitor service uses that we most commonly permit on Alaska refuges. We changed the activity codes from two-letter codes to three-letter codes.

4. On page three, Part 4 of the form, we revised the instructions that state, “List the MAKE, MODEL, WHEEL/FLOAT/SKI, COLOR and TAIL NUMBER of all the aircraft you own/lease/operate:” We added to this statement the phrase, “* * * that you will use in your proposed activity:” to clarify that we only need information about aircraft the applicant will use for activities permitted on the refuge.

5. In addition to the revisions identified above, we made several minor editorial changes on the application form for clarification and plain language requirements. The editorial revisions do not affect information requirements of the application.

Title: Special Use Permit Applications on National Wildlife Refuges in Alaska.

OMB form number: 1018-0014—Service form number: 3-2001.

Frequency of collection: On occasion.

Description of the respondents: Individuals and households; business and other.

Number of respondents: 212.

Estimated completion time: 8.6 hours (average time for competitive and non-competitive respondents).

Burden estimate: 1,820 hours.

BILLING CODE 4310-55-P

Dated: April 12, 2000.
Paul R. Schmidt,
Assistant Director for Refuges and Wildlife.

[FR Doc. 00-16371 Filed 6-28-00; 8:45 am]

BILLING CODE 4310-55-C